DEPARTMENT OF THE TREASURY

Senior Executive Service Performance Review Boards

AGENCY: Department of the Treasury.

ACTION: Notice of Appointments to Performance Review Boards (PRBs).

SUMMARY: Pursuant to 5 U.S.C. 4314(c)(4), this notice announces the appointment of members to the Department of the Treasury's Performance Review Boards (PRBs). The purpose of these Boards are to review and make recommendations concerning proposed performance appraisals, ratings, bonuses and other appropriate personnel actions for incumbents of SES positions in the Department.

DATES: Membership is effective on the date of this notice.

FOR FURTHER INFORMATION CONTACT: Kimberly Jackson, Office of Executive Resources, 1500 Pennsylvania Avenue NW, ATTN: 1801 L Street, 6th Floor, Washington, DC 20220, Telephone: 202-622-0774.

SUPPLEMENTARY INFORMATION:

Composition of the PRB: The Boards shall consist of at least three members. In the case of an appraisal of a career appointee, more than half the members shall consist of career appointees. The persons listed below may be selected to serve on one or more PRBs within Treasury.

Names for Federal Register Publication

Top Officials

• John York, Assistant Secretary for Management

• Patricia Ann Solimene, Director, Bureau of Engraving and Printing

• Craig Lawrence Deatrick, Deputy Director, Chief Administrative Officer

• Yolanda Denise Ward, Deputy Director, Chief Operating Officer

• Timothy Gribben, Commissioner for the Bureau of the Fiscal Service

• Joseph Gioeli, Deputy Commissioner (Transformation and Modernization), Bureau of the Fiscal Service

• Jeffrey J. Schramek, Deputy Commissioner Administrative Resource Center, Bureau of the Fiscal Service

• Andrea Gacki, Director, Financial Crimes Enforcement Network

• Jimmy Kirby Jr, Deputy Director, Financial Crimes Enforcement Network

• Kristie L. McNally, Deputy Director of the Mint

• Mary G. Ryan, Administrator for the Alcohol and Tobacco Tax and Trade Bureau

• Elisabeth Kann, Deputy Administrator for the Alcohol and Tobacco Tax and Trade Bureau

• Christopher Michael Pilkerton, Principal Deputy General Counsel

• Tyler Stephen Badgley, Deputy General Counsel

Departmental Offices

• Alexandra Preate, Counselor to the Secretary

• Tyler Williams, Counselor to the Secretary

• Derek John Theurer, Counselor to the Secretary

• Michael Friedman, Chief of Staff

• Cora D'Silva Alvi, Deputy Chief of Staff

• Samantha Virginia Schwab, Deputy Chief of Staff

• Rachel Grace Miller, Executive Secretary

• George Hunter McMaster III, Director of Policy and Planning

• Andrew Fair, Deputy Assistant Secretary for Investment Security Operations

• Joseph Pauloski, Director of Reviews and Investigations

• Alexandra Yestrumskas, Deputy Assistant Secretary for Investment Security

• David Shogren, Director, Office of Global Transactions

• Meena Sharma, Director, Office of Investment Security Policy and International Relations

• Patricia Pollard, Deputy Assistant Secretary for International Monetary and Financial Policy

• Evangelia Bouzis, Senior Advisor

• Mirea Grotz, Director, Office of International Trade

• Brian McCauley, Deputy Assistant Secretary, Europe and Eurasia

• Jeffrey Baker, Director, Office of Development Results and Accountability

• Margaret Kuhlow, Deputy Assistant Secretary for International Development Finance and Policy

• Alejandro Mares, Director, Western Hemisphere Office

• Anthony Ieronimo, Senior Advisor

• Robert Kaproth, Deputy Assistant Secretary for South and East Asia

• Michael Kaplan, Deputy Assistant Secretary for Western Hemisphere and South Asia

• Albert Lee, Director, Markets Room

• Shannon Ding, Director, Office of East Asia

• Lailee Moghtader, Deputy Assistant Secretary for Trade and Investment Policy

• Charles Moravec, Director, Office of Multilateral Development Banks

• Clarence Severens, Senior Advisor

• Lida Fitts, Director, Office of Energy and Infrastructure

• Mathew Haarsager, Treasury Attaché Austria

• Eric Meyer, Deputy Assistant Secretary, Africa, Middle East, and Multilateral Development Bank Operations

• Nicholas Tabor, Deputy Assistant Secretary for International Financial Markets

• Sean Hoskins, Director of Policy

• Christina Skinner, Deputy Assistant Secretary, Financial Stability Oversight Council

• Nicholas Steele, Director Office of Fiscal Projections

• Renata Miskell, Deputy Assistant Secretary for Accounting Policy and Financial Transparency

• Matthew Garber, Deputy Assistant Secretary for Fiscal Operations and Policy

• Alexandria Smith, Deputy Assistant Secretary for Community and Economic Development

• Walter Kim, Director for the Office of Financial Institutions Policy

• John Crews, Deputy Assistant Secretary for Financial Institutions Policy

• Christopher Curtis, Director, Office of Consumer Policy

• Sarah Nur, Director of International Coordination and Mission Support

• Steven E. Seitz, Director Federal Insurance Office

• Stephanie Schmelz, Deputy Director of the Federal Insurance Office

• Cory Patrick Wilson, Deputy Assistant Secretary, Cybersecurity and Critical Infrastructure Protection

• Gary Grippo, Deputy Assistant Secretary for Public Finance

• Fred Pietrangeli, Director for the Office of Debt Management

• Ethan Fallang, Deputy Assistant Secretary for Capital Markets

• Anupama Murgai, Director for Capital Markets

• Jeffrey Kim, Director, Federal Program Finance

• William Barrett III, Counselor to the Under Secretary for Terrorism and Financial Intelligence

• Paul Ahern, Counselor to the Under Secretary for Terrorism and Financial Intelligence

• Bradley T. Smith, Director for the Office of Foreign Assets Control

• Sara Thannhauser, Associate Director, Program Policy and Implementation, OFAC

• Lisa M. Palluconi, Deputy Director for the Office of Foreign Assets Control

• John M. Farley, Director, Treasury Executive Office for Asset Forfeiture

• Billy Bradley, Deputy Director, Treasury Executive Office for Asset Forfeiture

• Lawrence Scheinert, Associate Director, Office of Compliance and Enforcement

• Ripley Quinby, IV, Associate Director, Office of Sanction Support and Operations

• Scott Rembrandt, Deputy Assistant Secretary, Office of Strategic Policy, Terrorist Financing and Financial Crimes

• Anna Morris, Deputy Assistant Secretary for Global Affairs

• Rhett Skiles, Deputy Assistant Secretary for Intelligence

• Ryan L. Brick, Executive Director, Cyber Emerging and Technology Intelligence (CETI)

• Thomas Wolverton, Deputy Assistant Secretary for Security and Counterintelligence

• Katherine Amlin, Deputy Assistant Secretary for (Support and Technology) Intelligence Analysis

• Benjamin Davis, Chief Information Officer for Treasury Intelligence Capabilities

• Michael Doyle, Director, Office of Security Programs

• Michael Neufeld, Principal Deputy Assistant Secretary for Support and Technology

• Mason Champion, Deputy Assistant Secretary for Legislative Affairs (Tax & Budget)

• Jonathan M. Blum, Principal Deputy Assistant Secretary for Legislative Affairs

• Christopher Burdick, Deputy Assistant Secretary for Legislative Affairs (Terrorism and Financial Intelligence)

• Michael C. Dunn, Deputy Assistant Secretary for Legislative Affairs (Banking and Finance)

• Alexandra Adcock, Deputy Assistant Secretary for Legislative Affairs (Appropriations and Management)

• John Poulson III, Deputy Assistant Secretary for Legislative Affairs (International Affairs)

• Elliott Hulse, Deputy Assistant Secretary for Public Affairs (International Affairs)

• Spencer Hurwitz, Deputy Assistant Secretary for Public Affairs (Terrorism and Financial Intelligence)

• David O'Brien, Deputy Assistant Secretary for Public Affairs (Domestic Finance)

• Kristin Lynch, Deputy Assistant Secretary for Public Affairs

• Christopher Soares, Director, Microeconomic Analysis

• Samuel Brown, Director, Office of Macroeconomic Analysis

• Jonathan S. Jaquette, Director for Receipts Forecasting

• Neviana Petkova, Director, Office of Tax Analysis

• Catherine Crato, Director Health Economics and Taxation

• John Eiler, Director for Economic Modeling and Computer Applications

• Eric Oman, Deputy Assistant Secretary (Tax Legislative)

• Rebecca Oakes Burch, Deputy Assistant Secretary for International Tax Affairs

• Kevin Salinger, Deputy Assistant Secretary (Tax Policy)

• Curtis Carlson, Director of Business Revenue

• Adam Cole, Director for Individual Taxation

• Gregory Till, Chief Operating Officer, Office of Recovery Programs

• Danielle Christensen, Deputy Chief Program Officer for State and Local Programs

• Jeffrey Stout, Deputy Chief Program Officer for Small Business and Community Investment Programs

• Donald Phillips, Deputy Assistant Secretary for Treasury Operations

• David Aten, Senior Advisor

• Samuel Corcos, Deputy Assistant Secretary, Information Systems and Chief Information Officer

• Ryan Law, Deputy Assistant Secretary for Privacy Transparency and Records

• Lenora Stiles, Deputy Assistant Secretary for Strategy, Planning and Performance Improvement

• Kawan Taylor, Director, Financial Reporting, Policy and Operations

• William Sessions, Deputy Assistant Secretary for Management and Budget

• Carole Y. Banks, Deputy Chief Financial Officer

• J. Trevor Norris, Deputy Assistant Secretary for Human Resources

• Michael Wenzler, Associate Chief Human Capital Officer for Executive and Human Capital Services

• Snider Page, Director, Office of Civil Rights and Equal Employment Opportunity

• Lorraine Cole, Chief Diversity and Inclusion for Departmental Offices

• Kande Hooten, Director, Office of DC Pensions

• Roger Adams, Associate Chief Information Officer for Enterprise Infrastructure Operations Services

• Peter Bergstrom, Administrator, Treasury Common Services Center

• Nicolaos Totten, Deputy Administrator for Technology

• Jane Kim, Associate Chief Information Officer for Security Operations

• Kamil Kuza, Associate Chief Information Officer for Cloud Services

• Karen Sue Howard, Director, Online Services

• Tracey L. Showman, Director, Online Services

• Christie Lucas, Associate Chief Information Officer for Human Resources Systems

• Christopher Mendoza, Associate Chief Information Officer for Enterprise Technology and Commodity Services

• Robert Coffman, Chief of Operations/Deputy to the Deputy Assistant Secretary for Operations

• Parraize Butler, Departmental Budget Officer

Office of the General Counsel

• Mark Vetter, Deputy Assistant General Counsel (Ethics)

• Jonathan Bressler, Assistant General Counsel (Enforcement and Intelligence)

• Eric Froman, Assistant General Counsel (Banking and Finance)

• Stephen Milligan, Deputy Assistant General Counsel (Banking and Finance)

• Nayla Kawerk, Deputy Assistant General Counsel (International Affairs)

• Jeffrey M. Klein, Deputy Assistant General Counsel (International Affairs)

• Michael Briskin, Deputy Assistant General Counsel (General Law and Regulation)

• Krishna Prasad Vallabhaneni, Tax Legislative Counsel

• Helen Morrison, Benefits Tax Counsel

• James Wang, Deputy International Tax Counsel

• Michelle Dickerman, Deputy Assistant General Counsel for Litigation, Oversight and Financial Stability

• Natasha Goldvug, Deputy Tax Legislative Counsel

• Shelley Leonard, Deputy Tax Legislative Counsel

• Caitlin Roberts Cottingham, Principal Deputy Assistant General Counsel for Enforcement and Intelligence

• Sean Boyce, Chief Counsel for the Financial Crimes Enforcement Network

• Heather Sigrist Book, Chief Counsel for the Bureau of Engraving and Printing

• Lillian Lai-Lin Cheng, Chief Counsel for the Bureau of the Fiscal Service

• Christina McMahon, Chief Counsel for Alcohol and Tobacco Tax and Trade Bureau

Bureau of Engraving and Printing

• Justin D. Draheim, Associate Director (Quality)

• Steven Alan Fisher, Associate Director (Chief Financial Officer)

• Ronald Voelker, Associate Director, Manufacturing

Financial Crimes Enforcement Network

• Amy L. Taylor, Associate Director, Technology Solutions and Services Division/CIO

• Dara Daniels, Associate Director Research and Analysis Division

• Whitney Case, Associate Director, Enforcement and Compliance Division

• Matthew R. Stiglitz, Associate Director, Global Investigations Division

• James Russell Martinelli, Associate Director, Policy Division

U.S. MINT

• Kenyatta Fletcher, Associate Director for Financial Management/CFO

• Francis O'Hearn, Chief Information Officer

• Robert Kuryzna, Plant Manager

• Randall Lee Johnson, Associate Director for Manufacturing

• Gregory Dawson, Associate Director of Strategy and Performance

Alcohol and Tobacco Tax and Trade Bureau

• Caroline F. May, Assistant Administrator Permitting and Taxation

• Gregory Greeley, Assistant Administrator, Information Resources/CIO

• Anthony Gledhill, Assistant Administrator, Field Operations, TTB

• Joseph Burruss, Assistant Administrator, Management/CFO

• Anita Ko, Assistant Administrator, Data Analytics/Chief Data Officer

Bureau of the Fiscal Service

• Nathaniel Reboja, Assistant Commissioner and Chief Information Officer

• Tony Paul, Deputy Assistant Commissioner and Chief Technology Officer

• Ryan Schanedig, Deputy Assistant Commissioner, Enterprise IT Operations

• Daniel Berger, Assistant Commissioner and Chief Financial Officer

• Erica Gaddy, Assistant Commissioner, Fiscal Accounting

• Dara Seaman, Associate Commissioner Financial Operations

• Linda C. Chero, Assistant Commissioner, Disbursing and Debt Management

• Christina Cox, Deputy Assistant Commissioner, Programs, Policy and Customer Relations

• Paul E. Deuley, Senior Advisor

• Horye Flowers, Deputy Assistant Commissioner, Debt Collection Service

• Justin Marsico, Assistant Commissioner and Chief Data Officer

• Caitlin McCall Gehring, Assistant Commissioner and Chief Customer Officer

• Anna Marie Mourad, Assistant Commissioner, ARC Management, Modernization and Customer Care

• Vona Susan Robinson, Deputy Assistant Commissioner, Federal Disbursement Services

• Tannura Elie, Assistant Commissioner, Revenue Collections Management

• Lori Santamorena, Executive Director, Government Securities Regulations Staff

• Daniel J. Vavasour, Chief Innovation Officer

• David T. Copenhaver, Assistant Commissioner (Wholesale Securities Services)

• Thomas T. Vannoy, Deputy Assistant Commissioner (Wholesale Securities Services)

• Adam H. Goldberg, Deputy Assistant Commissioner and Business Transformation Executive

• Jason T. Hill, Deputy Assistant Commissioner, ARC Management, Modernization and Customer Care

• Amanda M. Kupfner, Assistant Commissioner, Chief Administrative Officer

• Angela Jones, Assistant Commissioner and Chief Human Resource Officer

• Bernadette Goodwin, Deputy Assistant Commissioner, Fiscal and Financial Agent Services

Kimberly Jackson,
Human Resources Specialist, Office of Executive Resources.

[FR Doc. 2025-20517 Filed 11-20-25; 8:45 am]

BILLING CODE 4810-AK-P